DEPARTMENT OF THE INTERIOR

National Park Service

Notice of Inventory Completion: The Colorado College, Colorado Springs, CO

AGENCY: National Park Service, Interior.

ACTION: Notice.

Notice is here given in accordance with the Native American Graves Protection and Repatriation Act (NAGPRA), 25 U.S.C. 3003, of the completion of an inventory of human remains and associated funerary objects in the possession of The Colorado College, Colorado Springs, CO. The human remains and associated funerary object were removed from Canyon de Chelly, Apache County, AZ.

This notice is published as part of the National Park Service's administrative responsibilities under NAGPRA, 25 U.S.C. 3003(d)(3). The determinations within this notice are the sole responsibility of the museum, institution, or Federal agency that has control of the Native American human remains and associated funerary objects. The National Park Service is not responsible for the determinations within this notice.

A detailed assessment of the human remains was made by The Colorado College professional staff in consultation with representatives the Hopi Tribe of Arizona; Navajo Nation, Arizona, New Mexico & Utah; Pueblo of Acoma; Pueblo of Cochiti; Pueblo of Isleta; Pueblo of Jemez; Pueblo of Laguna; Pueblo of Nambe; Pueblo of Picuris; Pueblo of Pojoaque; Pueblo of San Felipe; Pueblo of San Ildefonso; Pueblo of San Juan; Pueblo of Sandia; Pueblo of Santa Ana; Pueblo of Santa Clara; Pueblo of Santo Domingo; Pueblo of Taos; Pueblo of Tesuque; Pueblo of Zia; Ysleta del Sur Pueblo; and Zuni Tribe of the Zuni Reservation, New Mexico.

On an unknown date in the 19th century, human remains representing 11 individuals were removed from Canyon de Chelly, Apache County, AZ. The specific provenience is unknown, but records from the former Colorado College museum indicate that the human remains are likely from a “cliff ruin” in “Chinlee Canon.” The records include a ground plan of a ruin with numbered burials in the front of the ruin. Some of the numbers correspond to numbers painted on the human remains. Evidence indicates that the human remains were donated to The Colorado College in the late 1800s and became a part of the former Colorado College museum collections, which were transferred to the Anthropology Department in the 1960s and 1970s. The human remains were curated in the Anthropology Department Archaeology Laboratory, which until 1989 was in Palmer Hall. From 1989 until the present, the laboratory has been in the Biological Anthropology Classroom/Laboratory of Barnes Science Center. No known individuals were identified. The one associated funerary object is a string and feather blanket that encases the human remains of one of the individuals. That individual is an infant.

The Colorado College has determined that the lands from which the human remains and associated funerary object were collected were not Federal lands at the time of collection.

A physical anthropological assessment of the human remains resulted in a determination that the remains are ancestral Puebloan based on the type of cranial deformation. This determination is supported by the funerary object associated with one of the individuals, as well as the provenience. Canyon de Chelly, which is also known as Chinlee Canon, was a site of ancestral Puebloan occupation. Currently, the site is within the Navajo Indian Reservation. A relationship of shared group identity can reasonably be traced between ancestral Puebloan and modern Puebloan peoples based on oral tradition, folklore, and scientific studies.

Officials of The Colorado College have determined that, pursuant to 25 U.S.C. 3001(9-10), the human remains described above represent the physical remains of 11 individuals of Native American ancestry. Officials of The Colorado College also have determined that, pursuant to 25 U.S.C. 3001(3)(A), the one object described above is reasonably believed to have been placed with or near individual human remains at the time of death or later as part of the death rite or ceremony. Lastly, officials of The Colorado College have determined that, pursuant to 25 U.S.C. 3001(2), there is a relationship of shared group identity that can be reasonably traced between the Native American human remains and associated funerary object and the Hopi Tribe of Arizona; Pueblo of Acoma; Pueblo of Cochiti; Pueblo of Isleta; Pueblo of Jemez; Pueblo of Laguna; Pueblo of Nambe; Pueblo of Picuris; Pueblo of Pojoaque; Pueblo of San Felipe; Pueblo of San Ildefonso; Pueblo of San Juan; Pueblo of Sandia; Pueblo of Santa Ana; Pueblo of Santa Clara; Pueblo of Santo Domingo; Pueblo of Taos; Pueblo of Tesuque; Pueblo of Zia; Ysleta del Sur Pueblo; and Zuni Tribe of the Zuni Reservation, New Mexico.

Representatives of any other Indian tribe that believes itself to be culturally affiliated with the human remains and associated funerary object should contact Joyce Eastburg, Legal Assistant, The Colorado College, 14 East Cache La Poudre Street, Colorado Springs, CO 80903, telephone (719) 389-6703, before May 14, 2004. Repatriation of the human remains and associated funerary object to the Hopi Tribe of Arizona; Pueblo of Acoma; Pueblo of Cochiti; Pueblo of Isleta; Pueblo of Jemez; Pueblo of Laguna; Pueblo of Nambe; Pueblo of Picuris; Pueblo of Pojoaque; Pueblo of San Felipe; Pueblo of San Ildefonso; Pueblo of San Juan; Pueblo of Sandia; Pueblo of Santa Ana; Pueblo of Santa Clara; Pueblo of Santo Domingo; Pueblo of Taos; Pueblo of Tesuque; Pueblo of Zia; Ysleta del Sur Pueblo; and Zuni Tribe of the Zuni Reservation, New Mexico may proceed after that date if no additional claimants come forward.

The Colorado College is responsible for notifying the Hopi Tribe of Arizona; Navajo Nation, Arizona, New Mexico & Utah; Pueblo of Acoma; Pueblo of Cochiti; Pueblo of Isleta; Pueblo of Jemez; Pueblo of Laguna; Pueblo of Nambe; Pueblo of Picuris; Pueblo of Pojoaque; Pueblo of San Felipe; Pueblo of San Ildefonso; Pueblo of San Juan; Pueblo of Sandia; Pueblo of Santa Ana; Pueblo of Santa Clara; Pueblo of Santo Domingo; Pueblo of Taos; Pueblo of Tesuque; Pueblo of Zia; Ysleta del Sur Pueblo; and Zuni Tribe of the Zuni Reservation, New Mexico that this notice has been published.

Dated: February 25, 2004.
John Robbins,
Assistant Director, Cultural Resources.

[FR Doc. 04-8170 Filed 4-9-03; 8:45 am]

BILLING CODE 4310-50-S